DEPARTMENT OF THE INTERIOR

Bureau of Land Management

National Park Service

[AZ-100-07-1610-DR-241E]

Notice of Availability of Four Records of Decision and Three Approved Resource Management Plans for the Arizona Strip Field Office, Vermilion Cliffs National Monument, and Grand Canyon-Parashant National Monument (BLM Portion), and Approved General Management Plan for Grand Canyon-Parashant National Monument (NPS Portion), Arizona

AGENCY: Bureau of Land Management, Interior. National Park Service, Interior.

ACTION: Notice of availability.

SUMMARY: In accordance with the National Environmental Policy Act, the Federal Land Policy and Management Act, and the National Park and Recreation Act of 1978, and Bureau of Land Management (BLM) and National Park Service (NPS) policies, the BLM and NPS announce the availability of the two Records of Decision (RODs) for the Approved Resource Management Plan/General Management Plan for the jointly-managed Grand Canyon-Parashant National Monument (Parashant), located in Mohave County, Arizona. Separate RODs for the BLM and NPS decisions in the Approved Resource Management Plan/General Management Plan have been signed by the BLM Arizona State Director, and by the NPS Pacific West Regional Director, respectively, for each agency's decisions contained in the Approved Resource Management Plan/General Management Plan. The BLM also announces the availability of the ROD/Approved Resource Management Plan for the Vermilion Cliffs National Monument (Vermilion) and the ROD/Approved Resource Management Plan for the Arizona Strip Field Office (ASFO), located in Mohave and Coconino Counties, Arizona. Both of these areas are managed solely by the BLM.

ADDRESSES: The RODs/Approved Plans and associated documents or information may be viewed and downloaded at http://www.blm.gov/az/LUP/strip/strip_plan.htm or at http://www.nps.gov/lame/parkmgmt/docs.htm. Copies of the BLM and NPS RODs are available upon request from the Arizona Strip District Office, Bureau of Land Management, or the National Park Service, both located at 345 East Riverside Drive, St. George, Utah 84790. Copies of the three Approved Plans are also available at the same address. Please indicate which ROD/Approved Plan you are requesting. Reference copies of each ROD/Approved Plan are available for review during regular business hours at the following locations:

Lake Mead National Recreation Area Office, 601 Nevada Highway, Boulder City, Nevada 89005; BLM Arizona State Office (AZ-931), One North Central, Suite 800, Phoenix, Arizona 85004-4427; Boulder City Library, 701 Adams Blvd, Boulder City, Nevada 89005; Flagstaff Public Library, 300 West Aspen, Flagstaff, Arizona 86001; Fredonia Town Library, 130 North Main, Fredonia, Arizona 86022; Kanab City Library, 374 North Main Street, Kanab, Utah 84741; Mohave County Library, 3269 North Burbank Street, Kingman, Arizona 86401; Page City Library, 697 Vista Avenue, Page, Arizona 86040; and Washington County Library, 88 West 100 South, St. George, Utah 84770.

Before including your address, phone number, e-mail address, or other personal identifying information in your comment, you should be aware that your entire comment—including personal identifying information—may be made publicly available at any time. While you can ask us in your comment to withhold your personal identifying information from public review, we cannot guarantee that we will be able to do so.

FOR FURTHER INFORMATION CONTACT: District Manager, Arizona Strip District or Superintendent, Grand Canyon-Parashant National Monument, 345 East Riverside Drive, St. George, Utah 84790; telephone 435-688-3200; e-mail Arizona_Strip@blm.gov.

SUPPLEMENTARY INFORMATION: The Parashant was established by Presidential Proclamation on January 11, 2000. The Parashant is cooperatively managed by the BLM and the NPS. It encompasses 1,048,325 acres in Mohave County, Arizona, of which 808,744 acres are administered by the BLM and 208,447 acres are administered by the NPS. The Vermilion was established by Presidential Proclamation on November 9, 2000. The Vermilion covers 293,689 acres in Coconino County, Arizona, and is administered solely by the BLM. The remainder of the BLM-administered lands is in the ASFO, which encompass approximately 1,981,000 acres located in Mohave and Coconino Counties, Arizona, north of the Grand Canyon and is situated almost entirely between the two National Monuments.

Ten Cooperating Agencies assisted the BLM and the NPS in this planning effort: Arizona Game and Fish Department; Arizona Department of Transportation; Coconino County, Arizona; Mohave County, Arizona; Kane County, Utah; Washington County, Utah; Kaibab Paiute Tribe; Town of Colorado City, Arizona; Town of Fredonia, Arizona; and the Federal Highway Administration.

The RODs/Approved Plans were developed with broad public and Cooperating Agency participation through a 5-year collaborative planning process. These RODs/Approved Plans address management on approximately 2,768,247 acres of BLM-administered land and 208,447 acres of NPS-administered land. The RODs/Approved Plans contain both land use planning decisions and implementing decisions, to achieve desired future conditions and to provide planning structure to facilitate the management of the Parashant, Vermilion, and ASFO. Major resources and activities addressed by the BLM in their RODs/Approved Resource Management Plans include travel management; wilderness characteristics areas; cultural resources; geological resources; recreation and environmental education including interpretation; visual resources; vegetation management including ponderosa pine restoration; livestock grazing; areas of critical environmental concern; special status species; and wildlife management. Major resources and activities addressed by the NPS in its ROD/Approved General Management Plan include travel management; wilderness characteristics areas; cultural resources; geological resources; recreation and environmental education including interpretation; visual resources and cultural landscapes; soundscapes; vegetation management; control of non-native invasive species; livestock grazing; special status species; and wildlife management. As noted in the Final Environmental Impact Statement (FEIS), the NPS determined that none of the actions proposed would lead to impairment of park resources.

The Approved Plans are essentially the same decisions as contained in Alternative E in the Arizona Strip Proposed Plan/FEIS, published in February 2007. The BLM received seven protests on BLM land use plan decisions in the Proposed Plan/FEIS. After careful consideration of all points raised in those protests, the BLM Director concluded that the BLM Arizona State Director and the Arizona Strip District Manager followed all applicable planning procedures, laws, regulations, and policies, and considered all relevant resource information and public input in developing the proposed plan. None of the protests to BLM raised salient points pertaining to NPS decisions for lands and resources in Parashant. No inconsistencies with State or local plans, policies, or programs were identified during the Governor's consistency review of the Proposed Plan/FEIS. As a result, only minor editorial modifications were made in preparing the RODs/Approved Plans.

The decisions identifying designated routes of travel for motorized vehicles on BLM-administered lands are implementation decisions appealable under 43 CFR Part 4, subpart E. Any party adversely affected by the BLM's decision(s) to identify, evaluate, define, delineate and/or select specific routes as available for motorized use within designated areas in either the Parashant or Vermilion Management Plans may appeal within 30 days of publication of this Notice of Availability pursuant to 43 CFR, part 4, subpart E. The appeal should state the specific BLM route(s), as identified in the Approved Plans for the Parashant or Vermilion, on which the decision is being appealed. The appeal must be filed with the Arizona Strip District Manager at the above listed address. Please consult 43 CFR part 4 for further information on the IBLA appeals process.

There is no appeal process for NPS decisions in the NPS ROD and Parashant Approved Resource Management Plan/General Management Plan. Implementation of NPS decisions may begin upon publication of this Notice of Availability for the Parashant NPS ROD/Approved Plan in the Federal Register.

Helen M. Hankins,
Associate State Director, BLM Arizona.
Jonathan B. Jarvis,
Regional Director, NPS Pacific West Region.

[FR Doc. E8-10376 Filed 5-8-08; 8:45 am]

BILLING CODE 4310-84-P